DEPARTMENT OF COMMERCE

National Oceanic and Atmospheric Administration

50 CFR Part 648

[Docket No. 190514453-9453-01]

RIN 0648-XH043

Fisheries of the Northeastern United States; Summer Flounder, Scup, Black Sea Bass, and Atlantic Bluefish Fisheries; 2020-2021 Specifications

AGENCY: National Marine Fisheries Service (NMFS), National Oceanic and Atmospheric Administration (NOAA), Commerce.

ACTION: Proposed rule; request for comments.

SUMMARY: NMFS proposes 2020 specifications for the summer flounder, scup, black sea bass, and bluefish fisheries and projects 2021 summer flounder specifications. The implementing regulations for the Summer Flounder, Scup, and Black Sea Bass Fishery Management Plan and the Atlantic Bluefish Fishery Management Plan require us to publish specifications for the upcoming fishing year for each of these species and to provide an opportunity for public comment. This action is intended to inform the public of the proposed specifications for the start of the 2020 fishing year for these four species and announces the projected 2021 summer flounder specifications.

DATES: Comments must be received on or before August 26, 2019.

ADDRESSES: An environmental assessment (EA) for the summer flounder specifications was prepared for this action that describes the proposed measures and other considered alternatives, and provides an analysis of the impacts of the proposed measures and alternatives. A Supplemental Information Report (SIR) was prepared for the scup, black sea bass, and bluefish specifications. Copies of the EA and SIR, are available on request from Dr. Christopher M. Moore, Executive Director, Mid-Atlantic Fishery Management Council, Suite 201, 800 North State Street, Dover, DE 19901. The EA is also accessible via the internet at http://www.mafmc.org/s/SF_2020-2021_specs_EA.pdf.

You may submit comments on this document, identified by NOAA-NMFS-2019-0067, by either of the following methods:

Electronic Submission: Submit all electronic public comments via the Federal e-Rulemaking Portal.

1. Go to www.regulations.gov/#!docketDetail;D=NOAA-NMFS-2019-0067,

2. Click the “Comment Now!” icon, complete the required fields, and

3. Enter or attach your comments.

-OR-

Mail: Submit written comments to Michael Pentony, Regional Administrator, National Marine Fisheries Service, 55 Great Republic Drive, Gloucester, MA 01930. Mark the outside of the envelope, “Comments on the Proposed Rule for the Summer Flounder, Scup, Black Sea Bass, and Bluefish Specifications.”

Instructions: Comments sent by any other method, to any other address or individual, or received after the end of the comment period, may not be considered by NMFS. All comments received are part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Emily Gilbert, Fishery Policy Analyst, (978) 281-9244.

SUPPLEMENTARY INFORMATION:

General Background

The Mid-Atlantic Fishery Management Council (Council) and the Atlantic States Marine Fisheries Commission (Commission) cooperatively manage the summer flounder, scup, black sea bass, and bluefish fisheries. The Summer Flounder, Scup, and Black Sea Bass Fishery Management Plan (FMP) and Atlantic Bluefish FMP outline the Council's process for establishing specifications. The FMPs require the specification of the acceptable biological catch (ABC), annual catch limit (ACL), annual catch targets (ACT), commercial quotas, recreational harvest limit, and other management measures, for up to three years at a time. This action proposes summer flounder specifications for the 2020-2021 fishing years and also proposes interim scup, black sea bass, and bluefish 2020 specifications that will be replaced in early 2020 following the results of an operational assessment for all three species. These specifications are consistent with the recommendations made by the Commission and Council at the March 2019 joint meeting.

Proposed Interim 2020 Scup, Black Sea Bass, and Bluefish Specifications

There is no regulatory mechanism to roll over catch and landings limits from one year to the next in these FMPs, so this action is required to set these limits for the start of 2020. This action proposes maintaining the same 2019 specifications for the start of the 2020 fishing year (Table 1), consistent with the Council's Scientific and Statistical Committee (SSC) recommendations and the recommendations of the Council and Boards. These catch limits are expected to be in place for the first few months of 2020 and will be revised as soon as possible following the results of the forthcoming operation assessment for all three species. The results of the assessment will be available in September 2019. The Council and Boards plan on recommending revised 2020 and considering 2021 specifications for all three species at a joint October 2019 meeting.

Prior to the start of the 2020 fishing year, we will announce if any adjustments need to be made to account for any previous overages or, in the case of bluefish, any commercial/recreational sector transfers. The initial commercial scup quota allocations for 2020 by quota period are outlined in Table 2.

Table 1—Proposed Interim 2020 Specifications for Scup, Black Sea Bass, and Bluefish
| Scup: million lb | Scup: mt | Black Sea Bass: million lb | Black Sea Bass: mt | Bluefish: million lb | Bluefish: mt
Overfishing Limit (OFL) | 41.03 | 18,612 | 10.29 | 4,667 | 29.97 | 12,688
ABC | 36.43 | 16,525 | 8.94 | 4,055 | 21.81 | 9,895
ACL | 36.43 | 16,525 | 8.94 | 4,055 | 21.81 | 9,895
Commercial ACL | 28.42 | 12,890 | 4.35 | 1,974
ACT | 28.42 | 12,890 | 4.35 | 1,974 | 3.71 | 1,682
Commercial Quota | 23.98 | 10,879 | 3.52 | 1,596 | 7.71 | 3,497
Recreational ACL | 8.01 | 3,636 | 4.59 | 2,083
Recreational ACT | 8.01 | 3,636 | 4.59 | 2,083 | 18.11 | 8,213
Recreational Harvest Limit | 7.37 | 3,342 | 3.66 | 1,661 | 11.62 | 5,271

Table 2—Initial Commercial Scup Quota Allocations for 2020 by Quota Period
Quota period | Percent share | lb | mt
Winter I | 45.11 | 10,820,000 | 4,908
Summer | 38.95 | 9,340,986 | 4,237
Winter II | 15.94 | 3,822,816 | 1,734
Total | 100.0 | 23,983,802 | 10,879
Note: Metric tons are as converted from lb and may not necessarily total due to rounding.

Proposed 2020-2021 Summer Flounder Specifications

In February 2019, the final peer review and assessment results from the 66th Stock Assessment Workshop/Stock Assessment Review Committee (SAW/SARC 66) became available. This assessment incorporated revised MRIP estimates of recreational catch, which has an important impact on estimated spawning stock biomass for summer flounder. Based on the results of this benchmark assessment, the summer flounder stock is not overfished, and overfishing is not occurring.

The Council's SSC and the Summer Flounder Monitoring Committee (MC) met in late February 2019 to make recommendations to the Council for revised catch and landings limits for 2019 through 2021 based on the assessment information. Due to the need to implement revised 2019 specifications as soon as possible, we published an interim final rule on May 17, 2019 (84 FR 22392), adjusting the 2019 catch limits for the remainder of the 2019 fishing year. This proposed rule would implement the 2020 specifications and announce the projected 2021 specifications (Table 3). The 2020 and 2021 specifications are identical to what is currently in place for 2019.

Table 4 outlines the initial 2020 state-by-state summer flounder allocations. Prior to the start of each fishing year, we will announce any adjustments necessary to address any long-standing overages or potential 2018 overages and to provide the states with their specific quotas.

Table 3—Summary of 2020-2021 Summer Flounder Fishery Specifications
[In millions of pounds]
| million lb | mt
OFL | 30.94 (2020) 31.67 (2021) | 14,034 (2020) 14,365 (2021)
ABC | 25.03 | 11,354
Commercial ACL | 13.53 | 6,136
Commercial ACT | 13.53 | 6,136
Commercial Quota | 11.53 | 5,229
Recreational ACL | 11.51 | 5,218
Recreational ACT | 11.51 | 5,218
Recreational Harvest Limit | 7.69 | 3,486

Table 4—Initial 2020 Summer Flounder State-by-State Allocations
State | FMP percent share | Initial 2020 quotas *: lb | Initial 2020 quotas *: kg
ME | 0.0476 | 5,484 | 2,487
NH | 0.0005 | 53 | 24
MA | 6.8205 | 786,399 | 356,705
RI | 15.6830 | 1,808,248 | 820,207
CT | 2.2571 | 260,241 | 118,043
NY | 7.6470 | 881,698 | 399,931
NJ | 16.7250 | 1,928,391 | 874,704
DE | 0.0178 | 2,051 | 930
MD | 2.0391 | 235,108 | 106,643
VA | 21.3168 | 2,457,822 | 1,114,850
NC | 27.4458 | 3,164,505 | 1,435,395
Total | 100.00 | 11,530,000 | 5,229,920
* Initial quotas do not account for any previous overages.

This action makes no changes to the current commercial management measures, including the minimum fish size (14-inch (36-cm) total length), gear requirements, and possession limits. The 2020 recreational management measures will be considered in the late fall of 2019.

Classification

Pursuant to section 304(b)(1)(A) of the Magnuson-Stevens Act, the NMFS Assistant Administrator has determined that this proposed rule is consistent with the Summer Flounder, Scup, and Black Sea Bass FMP, Atlantic Bluefish FMP, other provisions of the Magnuson-Stevens Act, and other applicable law, subject to further consideration after public comment.

This proposed rule has been determined to be not significant for purposes of Executive Order 12866.

The Chief Counsel for Regulation of the Department of Commerce certified to the Chief Counsel for Advocacy of the Small Business Administration that this proposed rule, if adopted, would not have a significant economic impact on a substantial number of small entities. The Mid-Atlantic Fishery Management Council conducted an evaluation of the potential socioeconomic impacts of the proposed measures in conjunction with an EA (summer flounder) and SIR (scup, black sea bass, and bluefish). According to the commercial ownership database, 1,345 affiliate firms landed summer flounder, scup, black sea bass, and/or bluefish during the 2015-2019 period, with 1,335 of those business affiliates categorized as small businesses and 10 categorized as large businesses. Summer flounder, scup, black sea bass, and bluefish represented approximately 74 percent of the average receipts of the small entities and less than 1 percent for large entities considered over this time period.

The ownership data for the for-hire fleet indicate that there were 389 for-hire affiliate firms with summer flounder, scup, black sea bass, and/or bluefish permits generating revenues from recreationally fishing, all of which are categorized as small businesses. Although it is not possible to derive what proportion of the overall revenues came from specific fishing activities, given the popularity of these three species as recreational targets, it is likely that revenues generated from these species are important for some, if not all, of these firms.

For all four species, the proposed measures would maintain the commercial quotas and recreational harvest limits that are in place for the 2019 fishing year, resulting in similar fishing effort and revenues. As a result, this action is not expected to adversely impact revenues for commercial and recreational vessels that fish for summer flounder, scup, black sea bass, and bluefish. Because this rule will not have a significant economic impact on a substantial number of small entities, an initial regulatory flexibility analysis is not required and none has been prepared.

There are no new reporting or recordkeeping requirements contained in any of the alternatives considered for this action.

List of Subjects in 50 CFR Part 648

Fisheries, Fishing, Recordkeeping and reporting requirements.

Dated: July 22, 2019.
Samuel D. Rauch, III,
Deputy Assistant Administrator for Regulatory Programs, National Marine Fisheries Service.

[FR Doc. 2019-15845 Filed 7-25-19; 8:45 am]

BILLING CODE 3510-22-P